FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the notices are set forth in paragraph 7 of the Act (12 U.S.C. 1817(j)(7)).

The applications listed below, as well as other related filings required by the Board, if any, are available for immediate inspection at the Federal Reserve Bank indicated. The applications will also be available for inspection at the offices of the Board of Governors. Interested persons may express their views in writing on the standards enumerated in paragraph 7 of the Act.

Comments regarding each of these applications must be received at the Federal Reserve Bank indicated or the offices of the Board of Governors, Ann E. Misback, Secretary of the Board, 20th Street and Constitution Avenue NW, Washington, DC 20551-0001, not later than December 5, 2019.

A. Federal Reserve Bank of San Francisco (Gerald C. Tsai, Director, Applications and Enforcement) 101 Market Street, San Francisco, California 94105-1579:

1. John G. Sorensen, Jr., president of JGS, Jr. Family Holding Corporation, individually, and together with Sondra S. Swindle, president of SSS Family Holding Corporation, all of Salt Lake City, Utah; to be approved as members of a group acting in concert to retain voting shares of Home Credit Corporation, and thereby indirectly retain voting shares of Home Savings Bank, both of Salt Lake City, Utah.

Board of Governors of the Federal Reserve System, November 18, 2019.
Yao-Chin Chao,
Assistant Secretary of the Board.

[FR Doc. 2019-25250 Filed 11-20-19; 8:45 am]

BILLING CODE 6210-01-P